DEPARTMENT OF ENERGY

Western Area Power Administration

Information Collection Request Submitted to the Office of Management and Budget (OMB) for Approval Under the Paperwork Reduction Act

AGENCY: Western Area Power Administration, U.S. Department of Energy.

ACTION: Notice of Submission for OMB Approval; Request for Comments.

SUMMARY: This notice announces that Western Area Power Administration (Western), an agency of the Department of Energy (DOE), has sent an Information Collection Request (ICR) to the Office of Management and Budget (OMB) for review, comment and approval. Western submitted the ICR as required under the Paperwork Reduction Act of 1995.¹ The ICR described below identifies the proposal including the anticipated public burdens. On January 30, 2008, Western published a notice in the Federal Register inviting public comments on the ICR.² That notice provided a 60 day comment period. Western has included a summary of the comments and Western's responses below. As described below, Western invites interested entities to submit comments to OMB.

¹ See 44 U.S.C. 3501, et seq.

² See 73 FR 5555 (2008).

Western is collecting this data to properly perform its function of marketing a limited amount of Federal hydropower. Western will use the collected data to evaluate who will receive an allocation of Federal power.

Western notes the Paperwork Reduction Act process and associated Federal Register notice is a process whereby Western obtains approval from OMB to collect information from the public. It is a legal requirement that Western must comply with before Western can request potential preference customers to submit an application for power. The Paperwork Reduction Act process is not the process whereby interested parties request an allocation of federal power. The allocation of power from Western is outside the scope of this process and is completed in a separate process by each Western Region, when required.

DATES: To assure consideration, comments regarding this collection must be received on or before July 2, 2008. The Paperwork Reduction Act requires OMB to make a decision on the ICR between 30-60 days after this publication.

ADDRESSES: Written comments should be sent to: The DOE Desk Officer, Office of Information and Regulatory Affairs, Office of Management and Budget, New Executive Office Building, Room 10102, 735 17th Street, NW., Washington, DC 20503. With a copy to: PRAcomments@wapa.gov or Western Area Power Administration, Acting Power Marketing Advisor, 12155 W. Alameda Parkway, Lakewood, CO 80228.

FOR FURTHER INFORMATION CONTACT: Requests for additional information or copies of the information collection instrument and instructions should be directed to Western Area Power Administration, Melanie Reed 970-461-7229.

SUPPLEMENTARY INFORMATION:

I. Statutory Authority

Reclamation Laws are a series of laws arising from the Desert Land Act of 1877 and include, but are not limited to: The Desert Land Act of 1877, Reclamation Act of 1902, Reclamation Project Act of 1939, and the Acts authorizing each individual project such as the Central Valley Project Re-Authorizing Act of 1937.³ The Reclamation Act of 1902 established the Federal reclamation program.⁴ The basic principle of the Reclamation Act of 1902 was that the United States, through the Secretary of the Interior, would build and operate irrigation works from the proceeds of public land sales in the sixteen arid Western states (a seventeenth was added later). The Reclamation Project Act of 1939 expanded the purposes of the reclamation program and specified certain terms for contracts the Secretary of the Interior enters into to furnish water and power.⁵ Congress enacted the Reclamation Laws for purposes that include enhancing navigation, flood protection, reclaiming arid lands in the western United States, and for fish and wildlife.⁶ Congress intended that the production of power would be a supplemental feature of the multi-purpose water projects authorized under the Reclamation Laws.⁷ No contract entered into by the United States for power may impair the efficiency of the project for irrigation purposes.⁸ Section 5 of the Flood Control Act of 1944 is read in pari materia with Reclamation Laws.⁹ In 1977, the Department of Energy Organization Act transferred the power marketing functions of the Department of the Interior to Western.¹⁰ Pursuant to this authority, Western markets Federal hydropower. As part of Western's marketing authority, Western needs to obtain information from interested entities who desire an allocation of Federal power. The Paperwork Reduction Act requires Western to obtain a clearance from OMB before collecting certain information.¹¹

³ See Ch. 107, 19 Stat. 377 (1877), Ch. 1093, 32 Stat. 388 (1902), Ch, 418, 53 Stat. 1187 (1939), Ch. 832, 50 Stat. 844, 850 (1937), all as amended and supplemented.

⁴ See Ch. 1093, 32 Stat. 388, as amended and supplemented.

⁵ See Ch. 418, 53 Stat. 1187 (1939), as amended and supplemented.

⁶ See, e.g., Ch. 832, 50 Stat. 844, 850 (1937), as amended and supplemented.

⁷ See, e.g., Ch. 832, 50 Stat. 844, 850 (1937), as amended and supplemented.

⁸ See 43 U.S.C. § 485h(c).

⁹ See Act of December 22, 1944, Ch. 665, 58 Stat. 887, as amended and supplemented.

¹⁰ See 42 U.S.C. 7152(a)(1).

¹¹ See 44 U.S.C. 3501, et seq.

II. Background

Western is a Federal agency under the Department of Energy that markets and transmits wholesale electric power from 56 Federal hydropower plants and one coal-fired plant. Western sells about 40 percent of regional hydroelectric generation in a service area that covers 1.3 million square miles in 15 states.¹² To deliver this electric power to the western half of the United States, Western markets transmits about 10,000 megawatts of hydropower across an integrated 17,000-circuit mile, high voltage transmission system. Western's statutorily defined preference customers include municipalities, cooperatives, public utility and irrigation districts, Federal and State agencies, and Native American Tribes.¹³ These customers, in turn, provide retail electric service to millions of consumers in Arizona, California, Colorado, Iowa, Kansas, Minnesota, Montana, Nebraska, Nevada, New Mexico, North Dakota, South Dakota, Texas, Utah, and Wyoming.

¹² Western markets power under marketing plans developed through its offices: The Desert Southwest Region, Upper Great Plains Region, Rocky Mountain Region, Sierra Nevada Region and the Colorado River Storage Project Management Center (Regions).

¹³ See, e.g., 43 U.S.C. 485h(c).

As part of its marketing mission, Western needs to collect information contained in this ICR from entities which may be interested in obtaining a power allocation from Western. Western is submitting this ICR to OMB with this notice.¹⁴ Western has analyzed and responded to all comments received through this process. As required by the Paperwork Reduction Act, Western is now publishing a notice of its submittal to OMB and providing a second opportunity to comment.¹⁵ Such comments should be sent to OMB with a copy to Western at the addresses listed above.

¹⁴ See 44 U.S.C. 3507.

¹⁵ See 44 U.S.C. 3507.

III. Process

A. Background

On January 30, 2008, (73 FR 5555), in compliance with the Paperwork Reduction Act, Western published a notice in the Federal Register inviting comments on this ICR.¹⁶ As part of that notice, in particular, Western invited comments on: (1) Whether the proposed collection of information is necessary for the proper performance of the functions of the agency, including whether the information will have practical utility; (2) the accuracy of the agency's estimate of burden, including the validity of the methodology and assumptions used; (3) ways to enhance the quality, utility, and clarity of the information to be collected; and (4) ways to minimize the burden of the collection of information on respondents, including through the use of appropriate automated, electronic, mechanical, or other technological collection techniques or other forms of information technology. Western provided notice that the proposed ICR in this program will not be part of a system of records covered by the Privacy Act ¹⁷ and will be available under the Freedom of Information Act.¹⁸

¹⁶ See 44 U.S.C. 3506.

¹⁷ See 5 U.S.C. 552(a).

¹⁸ See 5 U.S.C. 552. Western reserves the right to redact information to exempt from disclosure confidential or sensitive information, as provided under FOIA.

On January 31, 2008, Western published a copy of the Federal Register notice on its Web site.¹⁹ Western sent a notice to over 1,000 potentially interested parties informing them of the publication of the Federal Register notice. Western sent notices on the following dates:

¹⁹ See 73 FR 5555 (2008).

—February 1, 2008, to over 100 interested parties in its Sierra Nevada Region;

—February 6, 2008, to over 200 interested parties in its Colorado River Storage Project Management Center;

—February 6, 2008, to almost 100 interested parties in its Rocky Mountain Region;

—February 12, 2008, to over 400 interested parties in its Upper Great Plains Region;

—February 14, 2008, to over 300 interested parties in its Desert Southwest Region.

Western received comments from 7 different interested parties. Western's responses to the comments are below.

B. Response to Comments

Comment: Several commenters asked why this process is taking place at this point in time, i.e., what is driving this process.

Response: When a federal agency requests information from the public that falls within the Paperwork Reduction Act, the agency must obtain approval (and an assigned control number) from OMB. Several of Western's Regional offices will be accepting applications for federal power in the next few years. Potential preference customers will be required to provide information by completing an Applicant Profile Data (APD) form. Western will use the APD to collect information to determine who may be eligible to receive a federal power allocation. Western must have OMB approval (and a valid control number) to request the information contained in the APD from potential preference customers. This process is an opportunity for the public to comment on the need, type, etc., of the information collected through Western's APD. The allocation of power from Western is outside the scope of this process and is completed in a separate process by each Western Region, when required.

Comment: We understand the impetus for going through this process is an upcoming partial reallocation within the Pick-Sloan Project. It would appear Western has decided to try to develop a form that can be used in all situations. An explanation of that sort in the Federal Register notice would have cut down on the expressions of concern many entities have fielded about this process.

Response: In addition to the Pick-Sloan Post-2010 Resource Pool Project, other Western projects will be undertaking power allocations pursuant to existing marketing plans in the next few years. The commenter correctly notes that Western will be requiring potential preference customers to provide information on a common form and that this process seeks comments on the form, i.e., the proposed APD. When a Federal agency requests information from the public that falls within the Paperwork Reduction Act, the agency must obtain approval (and an assigned control number) from OMB. As discussed above, Western must have OMB approval (and a valid control number) to request the information contained in the APD from potential customers. An OMB control number is valid for a maximum three year period. As a result, Western will go through this or similar processes once every three years to maintain a valid OMB control number. In future Paperwork Reduction Act processes, Western will clarify the process by including a summary phrase such as:

The Paperwork Reduction Act process, at 44 U.S.C. 3501 et seq., and associated Federal Register notice is a process whereby Western obtains approval from the Office of Management and Budget to collect information from the public. It is a legal requirement that Western must comply with before Western can request potential preference customers to submit an application for power. The Paperwork Reduction Act process is not the process whereby interested parties request an allocation of federal power. The allocation of power from Western is outside the scope of this process and is completed in a separate process by each Western Region, when required.

Comment: Several commenters asked whether they could obtain or apply for an allocation of federal power during the Paperwork Reduction Act process.

Response: The Paperwork Reduction Act process is not the process whereby interested parties request an allocation of federal power. The Paperwork Reduction Act process and the associated Federal Register notices are a process whereby Western obtains approval from OMB to collect information from the public. It is a legal requirement that Western must comply with before Western can request potential preference customers to submit an application for power. The allocation of power from Western is outside the scope of this process and is completed in a separate process by each Western Region, when required.

Comment: Several commenters asked whether Western would make the APD available on line and whether interested parties can file applications electronically.

Response: Western's Regions will issue a Federal Register notice for a Call for Applications through a separate process when required for the individual projects. At that time, Western will make the APD available on line and provide potential preference customers with the Web site and instructions on how to access the APD. Potential preference customers will be able to download the APD and submit the APD to Western under various methods (which Western will outline in the Call for Applications Federal Register notice), including via e-mail. However, Western currently does not have a Web site that would allow interested parties to fill out forms on line. In the event Western develops such a site, Western will provide notice of the availability of the site as part of the Call for Applications Federal Register notice.

Comment: A commenter stated a way to enhance quality, utility and clarity of information collection would be through automated collection of load data from any utility with that capability on the presumption that automated data should offer easier incorporation into Western's form.

Response: Developing software that would automatically collect data from each potential preference customer's computer system would be complex and expensive to develop for a small data collection effort. There are many different software developers and computer systems—not all systems are compatible. Considering this is not a routine, ongoing, repetitive, collection of information, Western does not believe it would be cost effective for Western to develop software and systems that would automatically collect load data from any potential preference customer that may submit an application.

Comment: Several commenters noted they appreciate receiving Western power and wish to continue to receive Western power in the future.

Response: Comment noted. Western appreciates the support from customers.

Comment: A commenter opposed collecting a subset of the information. The commenter would like to see the same APD used for each allocation process unless legally directed otherwise. This practice will ensure fairness across all re-marketing processes.

Response: In its initial proposal, because all of Western's Regions do not need the same information, Western proposed to allow each Region to use subsets of the APD form. In other words, as the commenter notes, one Region's APD may request less information than another Region's APD. This is necessary since each Region, due to Region specific requirements, may not necessarily need all of the information collected in the proposed APD. Rather than over-collect unnecessary information, Western seeks to collect only the minimal amount of information it needs. Western evaluated the possibility of using the same APD form for each Call for Application while instructing applicants to fill out only certain sections. This approach may lead to an applicant ignoring or misunderstanding Western's instructions and providing unnecessary information. Using a subset of information will lead to a more consistent process and will minimize the time an applicant uses to complete the APD.

Comment: Several commenters asked Western to clarify whether the data obtained under the APD has historically qualified for protection from release under the Freedom of Information Act's (FOIA) proprietary information exemption. They also expressed concerns about whether some of the applicant's load and resource information should be made available to the public. Western should be especially sensitive to the new Federal Energy Regulatory Commission criteria on Critical Energy Infrastructure Information (CEII). Western should have a way of collecting CEII when necessary for legitimate agency purposes without exposing that information to disclosure.

Response: Historically, Western has not considered the information contained in the APD as proprietary or confidential business information. A potential preference customer's historical actual monthly and yearly demand and energy load has not traditionally been seen as proprietary. In contrast to real time schedules, which are subject to daily constraints and to significant market forces, historical monthly and yearly aggregates are not subject to the same type of manipulation. Western does not anticipate collecting any CEII through the APD. Western clarifies that in the event Western collects information protected by CEII or other confidential or business sensitive material, Western may withhold such information pursuant to FOIA.

Comment: A commenter stated that for Native American Tribes, the proposed rule does not appear to lessen any type of reporting burden previously imposed. With regard to load data; non-utility tribes generally spent many weeks retrieving data from their serving utilities in order to complete the applicant forms, while utility tribes required several work days to compile the information due to the mix of service from tribal and non-tribal entities and other factors.

Response: Western understands that, in some instances with regard to load data, non-utility Native American Tribes may have to work with serving utilities in order to obtain data for the APD. Estimated load data, which are subject to approval or adjustment by Western, may be used by the Native American Tribes when actual load data is difficult to obtain. Western believes the alternatives of estimating load data, as needed, lessen the Native American Tribes' burden to complete the APD.

Comment: A commenter stated Western should note an exception for Native American Tribes under Section 1(e). Providing Tribal membership lists is extremely burdensome and not relevant to Western's purposes under the collection.

Response: Western agrees Native American Tribes are not required to list individual members of the Tribe. Western included Section 1(e) to obtain information from member organizations such as Joint Power Agencies that may include numerous utilities. Western understands many Native American Tribes have individual members. While Native American Tribes are not required to list individual members, in the event numerous Tribes become members of an organization such as a Joint Power Agency and apply for power under such an organization, the separate Tribes (but not individual members) should be listed. Western will clarify that Section 1(e) requires a list of organizational members not individual members.

Comment: A commenter stated Section 1(i) should provide an exception for Native American Tribes—redirecting these applicants to Section 3(b) which addresses Tribes that do not operate their own utilities; alternatively, this section should include the phrase “if any.”

Response: Western agrees Section 1(i) may not be applicable to Native American Tribes. Western has included the phrase “if applicable” in the Section.

Comment: Several commenters generally agreed the scope of information collected related to the proper performance of Western's functions. Western should not allocate resources blindly.

Response: Comment noted. Western appreciates the support from customers.

Comment: Several commenters noted the information will have a practical utility in that it will assist Western in allocating resources.

Response: Comment noted. Western appreciates the support from customers.

Comment: A commenter stated large organizations with which Western deals have staff that routinely handle this kind of information and can supply it to the individual tasked with filling out the form. Small organizations will have more trouble collecting this information. However, as Western points out, the resource is scarce and valuable and well worth the time.

Response: Western agrees large organizations will have more staff available to fill out the form. Western believes collecting the load data could be the most time consuming element of the APD organization. However, load data is essential to determine the amount of resources which Western may allocate to potential preference customers, small and large. In the event an organization needs assistance filling in the form, they may contact Western for assistance.

Comment: A commenter stated that, to achieve more clarity, Western should examine the list provided under type of entity/organization. There are several kinds of organizations that currently contract with Western but are not named. Two of those are electrical districts and power districts. The commenter suggested Western examine its potential contractors to see if it is missing additional categories that should be included in an existing category. For instance, irrigation district could be changed to special district (agricultural improvement, power, electrical, irrigation or other special district).

Response: Section 1(c) of the APD lists the majority of types of organizations found eligible for allocations in processes under past marketing initiatives. To the extent there are other types of organizations submitting an ADP, they may use the box marked “Other” and write in their specific organizational type.

Comment: A commenter stated as to existing customers, much of the information that would be put in the proposed APD is already known to Western and is in Western's system. The commenter suggests that, for existing customers, Western ask for updated information in lieu of forcing applicants to give the agency information it already has if there are no changes. For existing customers, Western could merely note the last time such types of information were submitted and request that the applicant provide any changes to that type of information from that last submission.

Response: The APD is designed to obtain current information from applicants who are seeking an allocation of Federal power. Western requires only those applicants desiring power under a Call for Applications to submit an APD. The APD is typically used to obtain information from new potential preference customers, but may also be used for existing preference customers who apply for an allocation increase, if allowed under the Regional marketing plan. To ensure consistency in the allocation processes, Western requires applicants applying under a Call for Application to submit an APD with current information.

Comment: Two commenters made statements about the estimate burden associated with completing the APD and the annual reporting. One commenter stated that there is no real way to estimate how long it will take to fill out this form until one tries to do so. Another commenter stated Western underestimated the completion estimate and recordkeeping burden for Native American Tribes.

Response: In recognition of these comments, Western has increased the burden estimate for completing the APD by doubling the estimated time from 4 hours to 8 hours. While some potential preference customers may require more time than others, Western still anticipates most customers will be able to complete the APD within 4 hours. By increasing the average burden to 8 hours, Western recognizes that it may take longer for some entities to complete the APD. Because the amount of annual recordkeeping is minimal, Western considers the annual burden estimate of 1 hour for recordkeeping as accurate.

IV. Purpose of Proposed Collection

The ICR is necessary for the proper performance of Western's functions. Western markets a limited amount of Federal power. Western has discretion to determine who will receive an allocation of Federal power. Due to the high demand for Western's power and limited amount of available power, Western needs to be able to collect information to evaluate who will receive an allocation of Federal power. As a result, the information Western collects is both necessary and useful.

This public process only determines what type of information Western will collect in the APD from an entity applying for a Federal power allocation. The information Western proposes to collect is voluntary. Western will use the information collected in the APD, in conjunction with its marketing plan, to determine an entity's eligibility and ultimately who will receive an allocation of Federal power. Western will issue a Call for Applications, as part of its marketing plan, which will occur through a separate process. The actual allocation of power is outside the scope of this proceeding.

V. Information Western Proposes To Collect

A. Applicant Profile Data (APD)

Western has submitted to OMB the ICR described below. Western will collect the information through an application. As part of this process, Western has identified what it believes is the minimum amount of information Western needs for its Regional offices to properly perform the functions of the agency. Due to the variations that may be developed in each Region, each Region, through its marketing plan, may determine that it does not need all of the information contained in the ICR. As a result, Western proposes to allow each Region to use subsets of the form, where one Region's APD may request less information than another Region's APD. Rather than over-collect unnecessary information, Western seeks to collect only the minimal amount of information it needs. Western evaluated the possibility of using the same APD form but instructing applicants to fill out only certain sections. This approach could lead to an applicant ignoring or misunderstanding Western's instructions and providing unnecessary information. Using a subset of information will lead to a more consistent process and will minimize the time an applicant uses to complete the APD.

To receive an allocation of Federal power from Western, the applicant must provide the information requested in the APD. If the requested information is not applicable or is not available, the applicant shall note it on the APD. Western will request, in writing, additional information from any applicant whose application is deficient. Western will notify the applicant when such information is due. In the event, that by the due date, an applicant fails to provide sufficient information to allow Western to make a determination regarding eligibility, the application will not be considered. The content and format of the APD are outlined below.

B. Form of APD

BILLING CODE 6450-01-P

BILLING CODE 6450-01-S

Signature Title

Applications may be submitted by U.S. mail to the address below or electronically to xxxx@wapa.gov with an electronic signature. If submitting this application electronically and an electronic signature is not available, please fax this page with a signature to (xxx) xxx-xxx, or mail it to _____ Region, Western Area Power Administration, Address, State, City, and Zip Code.

Recordkeeping Requirements: If Western accepts your application and you receive an allocation of Federal power you must keep all records associated with your APD for a period of 3 years after you sign your contract for Federal power. If you do not receive an allocation of Federal power, there is no recordkeeping requirement.

Western has obtained an OMB Clearance Number _____ for the collection of the above information.

This data is being collected to enable Western to properly perform its function of marketing limited amounts of Federal hydropower. The data you supply will be used by Western to evaluate who will receive an allocation of Federal power.

Public reporting burden for this collection of information is estimated to average 8 hours per response, including the time for reviewing instructions, searching existing data sources, gathering and maintaining the data needed, and completing and reviewing the collection of information. Send comments regarding this burden estimate or any other aspect of this collection of information, including suggestions for reducing this burden, to Paperwork Reduction Act Comments, Western Area Power Administration, P.O. Box 281213, 12155 W. Alameda Parkway, Lakewood, CO 80228; and to the Office of Management and Budget (OMB), OIRA, Washington, DC 20503.

Notwithstanding any other provision of the law, no person is required to respond to, nor shall any person be subject to a penalty for failure to comply with a collection of information subject to the requirements of the Paperwork Reduction Act unless that collection of information displays a currently valid OMB control number.

Submission of this data is voluntary, however, if an entity seeks an allocation of Federal power, the applicant must submit an APD.

VI. Paperwork Reduction Requirements

A. Introduction

1. OMB Number: Western will obtain a new OMB Number. This number will be displayed on the front page of the APD.

2. Title: Western will title the ICR: Applicant Profile Data.

3. Type of Review: Western will request that OMB treat its review as a New Review for an existing collection.

4. Purpose: The ICR is necessary for the proper performance of Western's functions. Western markets a limited amount of Federal power. Western has discretion to determine who will receive an allocation of Federal power. Due to the high demand for Western's power and limited amount of available power under established marketing plans, Western needs to be able to collect information to evaluate who will receive an allocation of Federal power. As a result, the information Western collects is both necessary and useful. This public process only determines the information which Western will collect in its application. The actual allocation of Federal power will be done through a separate process and is outside the scope of this proceeding.

5. Respondent: The response is voluntary. However, if an entity seeks an allocation of Federal power, the applicant must submit an APD. Western has identified the following class of respondents as the most likely to apply: municipalities, cooperatives, public utilities, irrigation districts, Native American Tribes, and Federal and State agencies. The respondents will be located in Arizona, California, Colorado, Iowa, Kansas, Minnesota, Montana, Nebraska, Nevada, New Mexico, North Dakota, South Dakota, Texas, Utah, and Wyoming.

6. Estimated Number of Respondents. Depending on the amount of power that becomes available for allocation, Western anticipates it could receive up to 100 requests for power during the 3-year period when the OMB Clearance Number is in effect. Western does not anticipate annual responses. The responses will be periodic and occur when Western has power available under an allocation process.

7. Number of Burden Hours:

a. Initial Application: Western anticipates that it will take 8 hours or less to complete the APD. Once the respondent completes the APD, it will submit the APD to Western for Western's review. After submitting the APD, provided the APD is complete and no clarification is required, Western does not anticipate requiring any further information for the APD from the applicant, unless the applicant is successful in obtaining a power allocation. The applicant submits only one APD. It does not submit an APD every year. If the applicant receives a power allocation, the applicant will need to complete a standard contract to receive its power allocation. Western's standard contract terms are outside the scope of this process.

b. Recordkeeping: There are no mandatory recordkeeping requirements on the applicant if it does not receive an allocation of Federal power. In such case, any recordkeeping of the APD by a respondent is voluntary. For those entities that receive a Federal power allocation, Western requires the successful applicant keep the information for 3 years after the applicant signs its Federal power contract. The 3-year, record retention policy will allow Western sufficient time to administer the contract and to ensure the applicant provided factual information in its application. A 3-year, record retention policy will have little impact on most businesses in the electric utility industry. Western anticipates that it would take less than 1 hour per successful candidate, per year, for recordkeeping purposes. Western anticipates that in a 3-year period, Western will have less than 30 successful applicants.

c. Methodology: Based on the total number of burden hours and the total number of applications described above, Western expects that over a 3-year period, the total burden hours to complete the APD is 800 hours over 3 years (100 applicants over 3 years × 8 hours per applicant). This converts to an annual hourly burden of 266.667 hours. An entity will only complete the APD once. It is not required each year.

Based on the above, Western anticipates that there will be additional cost burdens for recordkeeping of 1 hour per year for each successful applicant, i.e., each applicant who receives a Federal power allocation. Western anticipates that over the course of 3 years there will be 30 successful applicants. The power may be allocated in year 1, year 2 or year 3. For the purposes of determining the cost burden, Western will presume all 30 applicants received an allocation in year 1. As a result, the annual hourly burden for recordkeeping is 30 hours.

For the purposes of this cost burden analysis, Western is assuming that a utility staff specialist will complete the APD. Western estimates a utility staff specialist rate, including administrative overheard, to be approximately $100/hour. For recordkeeping, Western estimates an administrative support rate of $50/hour. Based on the above, Western estimates the total annual cost as (266.667 hour/year × $100/hour) + (30 hour/year × $50/hour) = $28,167 per year.

Using the above estimates, on a per applicant basis, assuming the applicant receives a Federal power allocation, the total cost for the applicant over a 3-year period is $950. The cost to complete the APD is a one time cost of $800. In addition to the one time cost, the applicant, if it successfully receives a power allocation, will incur an additional expense of 1 hour for recordkeeping per year × $50 per hour for a total recordkeeping cost of $150 for 3 years.

d. Summary of Burdens:

Table 1.—Annual Hour Burden Estimates
Activity | Number of respondents | Number of responses per respondent | Average burden hour per response | Sub-total burden hours
APD | 33.333 | 1 | 8 | 266.67
Recordkeeping | 30 | 1 | 1 | 30.00
Total Burden |  |  |  | 296.67

Table 2.—Annual Cost Burden Estimate
Instrument | Number of respondents | Number of responses per respondent | Average annual burden hour | Cost per burden hour | Cost per response | Sub-total cost
Prepare APD | 33.333 | 1 | 8 | $100 | $800.00 | $26,666.40
Recordkeeping | 30 | 1 | 1 | 50 | 50.00 | 1,500.00
Total Cost |  |  |  |  |  | 28,166.40

The procedure and process for the allocation of power shall be the subject matter of a separate notice and is outside the scope of this process.

B. Does the collection of data avoid unnecessary duplication?

Yes. To avoid unnecessary duplication, only entities which desire a new Western allocation are required to submit an APD.

As it relates to each of the components of the APD, there is no duplication. Section 1 is information Western needs to determine who the applicant is, whether the applicant is a statutorily defined preference entity and whether the applicant is ready, willing and able to receive and/or distribute Federal power. Section 2 identifies the amount of Federal power which the applicant requests. Section 3 identifies the applicant's loads. Section 4 identifies the applicant's resources. Section 5 identifies the applicant's transmission delivery arrangements necessary to receive Federal power. Section 6 is voluntary and provides the applicant with the ability to provide any additional information. Section 7 is an attestation that the information provided is true and accurate to the best of the applicant's knowledge.

C. Does the collection reduce the burden on the respondent, including small entities, to the extent practicable and appropriate?

Yes. The information requested is the minimum amount of information to determine whether the applicant qualifies as a statutorily defined preference entity and is ready, willing and able to receive an allocation of Federal power.

D. Does the collection use plain, coherent, and unambiguous language that is understandable to the respondent?

Yes. The collection uses plain, coherent, and unambiguous language that is understandable to the target audience. The terms are those used in the electric utility industry. Western does not market power to individual members of the public such as homeowners or shopkeepers. Preference entities are statutorily designated potential customers who generally are involved in the power business. As a result, the language used in the application is understandable to the target audience.

E. Is the collection consistent with and compatible with the respondent's current reporting and recordkeeping practices to the maximum extent practicable?

Yes. The information collection is voluntary. Western will use the information to determine whether an applicant qualifies as a preference entity to receive an allocation of Federal power. As discussed above, there is no mandatory recordkeeping requirement on the applicant if it does not receive an allocation of Federal power. For those entities that receive a Federal power allocation, Western requires that they keep the information for 3 years after Western grants the power allocation and the applicant signs a Federal power contract. The proposed 3-year record retention policy for such applicants would allow Western sufficient time to administer the contract and to ensure the applicant provided factual information in its application. Western anticipates that a 3-year record retention policy will have little impact on most businesses in the power industry who will already keep the APD as part of their normal business records. The procedure and process for the allocation of power shall be the subject matter of a separate notice and is outside the scope of this process.

F. Does the collection indicate the retention period for any recordkeeping requirements for the respondent?

Yes. The APD identifies that there is no recordkeeping requirement for the respondent if it does not receive an allocation of Federal power. It also identifies that applicants who receive an allocation of Federal power must retain the records for 3 years.

G. Does the collection inform the public of the information the public needs to exercise scrutiny concerning the agency need to collect information (the reasons the information is collected, the way it is used, an estimate of the burden, whether the response is voluntary, required to obtain a benefit, or mandatory and a statement that no person is required to respond unless a valid OMB control number is displayed)?

Yes. If an entity desires a Federal power allocation from Western, Western needs certain information to determine whether the entity is eligible to receive power. Western has a limited amount of power available. Western uses its discretion in allocating power. In order to use its discretion in allocating power, Western will use the information collected on the application. Western will not accept incomplete applications. Western will work with Native American Tribes and other entities that may need assistance in completing the application. No person is required to submit any information unless a valid OMB control number is displayed. No person is required to submit any information unless they desire a Federal power allocation.

H. Is the collection developed by an office that has planned and allocated resources for the efficient and effective management and use of the information collected?

Yes. Western's power marketing offices will administer and evaluate the applications. Use and management of the collected information has been factored into each office's functions and resource requirements. Historically, Western has requested the same relative information from applicants and effectively used Western resources to utilize and manage the information in its determinations. Each power marketing office will make a recommendation to Western's Administrator on which applicant(s) should be awarded a Federal power allocation based on the information contained in the APD. Western's Administrator shall use his discretion in the final power allocations. The procedure and process for the allocation of power shall be the subject matter of a separate notice and is outside the scope of this process.

I. Does the collection use effective and efficient statistical survey methods?

Not applicable. Since the information collected is used to determine whether an applicant receives an allocation of Federal power, this section is inapplicable.

J. Does the collection use information technology to the maximum extent practicable to reduce the burden and to improve data quality, agency efficiency, and responsiveness to the public?

Yes. The APD will be accessible for downloading via Western's Web site. Western will accept electronic-mail submission of the APD, as well as submission via fax or regular mail. At this time, applicants cannot enter the information on Western's Web site.

VII. Invitation for Comments

Western invites public comment on ICR that Western has submitted to OMB pursuant to the Paperwork Reduction Act of 1995. The Paperwork Reduction Act requires OMB to make a decision on the PIC between 30-60 days after this publication.²⁰ Comments should be sent directly to the addresses listed in the ADDRESSES section above.

²⁰ See 44 U.S.C. 3607.

Dated: May 23, 2008
Timothy J. Meeks,
Administrator.

[FR Doc. E8-12246 Filed 5-30-08; 8:45 am]

BILLING CODE 6450-01-P